DEPARTMENT OF TRANSPORTATION

Federal Aviation Administration

14 CFR Part 39

[Docket No. FAA-2009-0331; Directorate Identifier 2008-NE-40-AD; Amendment 39-16235; AD 2010-06-11]

RIN 2120-AA64

Airworthiness Directives; Honeywell International Inc. TFE731 Series Turbofan Engines

AGENCY: Federal Aviation Administration (FAA), DOT.

ACTION: Final rule.

SUMMARY: The FAA is adopting a new airworthiness directive (AD) for Honeywell International Inc. TFE731 series turbofan engines with certain second stage low-pressure compressor rotor (LPCR) discs and/or certain third stage LPCR discs installed. This AD requires removing from service certain second stage LPCR discs and/or certain third stage LPCR discs. This AD results from a report of cracks found during a fluorescent penetrant inspection (FPI) of the disc bore. We are issuing this AD to prevent an uncontained failure of a second stage LPCR disc and/or a third stage LPCR disc due to cracks in the bore, which could result in damage to the airplane.

DATES: This AD becomes effective April 21, 2010. The Director of the Federal Register approved the incorporation by reference of certain publications listed in the regulations as of April 21, 2010.

ADDRESSES: You can get the service information identified in this AD from Honeywell Engines and Systems Technical Publications and Distribution, M/S 2101-201, P.O. Box 52170, Phoenix, AZ 85072-2170, telephone: Global Customer Care toll free (800) 601-3099; International callers (602) 365-3099.

The Docket Operations office is located at Docket Management Facility, U.S. Department of Transportation, 1200 New Jersey Avenue, SE., West Building Ground Floor, Room W12-140, Washington, DC 20590-0001.

FOR FURTHER INFORMATION CONTACT: Joseph Costa, Aerospace Engineer, Los Angeles Aircraft Certification Office, FAA, Transport Airplane Directorate, 3960 Paramount Blvd., Lakewood, CA 90712-4137; e-mail: joseph.costa@faa.gov; telephone: (562) 627-5246; fax: (562) 627-5210.

SUPPLEMENTARY INFORMATION: The FAA proposed to amend 14 CFR part 39 with a notice of proposed rulemaking (NPRM) and a supplemental NPRM, to amend 14 CFR part 39 to add an AD, for Honeywell International Inc. TFE731 series turbofan engines with certain second stage LPCR discs and/or certain third stage LPCR discs installed. That NPRM was published in the Federal Register on April 13, 2009 (74 FR 16807) and proposed to remove from service certain second stage LPCR discs and certain third stage LPCR discs. That supplemental NPRM was published in the Federal Register on December 11, 2009 (74 FR 65697). The supplemental NPRM proposed to remove from service certain second stage LPCR discs and/or certain third stage LPCR discs. It also revised the proposed AD to correct a P/N error, to clarify the applicability, and to clarify the instructions in the compliance section.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDR ESSES section. Comments will be available in the AD docket shortly after receipt.

Comments

We provided the public the opportunity to participate in developing this AD. We responded to the comments received on the NPRM, in the supplemental NPRM. We received no comments on the supplemental NPRM or on the determination of the cost to the public.

Conclusion

We have carefully reviewed the available data and determined that air safety and the public interest require adopting the AD as proposed.

Costs of Compliance

We estimate that this AD will affect 27 engines installed on airplanes of U.S. registry. We also estimate that it will take about 4 work-hours per engine to perform the actions during scheduled maintenance and 140 work-hours per engine for the actions during unscheduled maintenance. The average labor rate is $80 per work-hour. Required parts will cost about $31,000 per engine. Based on these figures, we estimate the total cost of the AD to U.S. operators to be $900,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2010-06-11 Honeywell International Inc. (Formerly AlliedSignal Inc., formerly Garrett Turbine Engine Company): Amendment 39-16235. Docket No. FAA-2009-0331; Directorate Identifier 2008-NE-40-AD.

Effective Date

(a) This airworthiness directive (AD) becomes effective April 21, 2010.

Affected ADs

(b) None.

Applicability

(c) This AD applies to Honeywell International Inc. TFE731-2, TFE731-2A, TFE731-2C, TFE731-3, TFE731-3A, TFE731-3AR, TFE731-3B, TFE731-3BR, TFE731-3C, TFE731-3CR, TFE731-3D, TFE731-3DR, TFE731-3R, TFE731-4, TFE731-4R, TFE731-5, TFE731-5AR, TFE731-5BR, and TFE731-5R series turbofan engines with certain second stage low-pressure compressor rotor (LPCR) discs, part number (P/N) 3072396-1 or 3075190-1, and/or certain third stage LPCR discs, P/N 3072397-1 or 3075192-1, installed. These engines are installed on, but not limited to, the airplanes listed in Table 1 of this AD.

Table 1—Installed on Airplanes by Manufacturer
Manufacturer | Model
Dassault-Aviation or Dassault Aviation | Falcon 10 (Falcon 100) and Mystere-Falcon 20, 50, 900 and MF900 series.
Cessna Aircraft Company | Model 650, Citation III, VI, and VII.
Gulfstream Aerospace LP | 1125 Westwind Astra.
Israel Aircraft Industries | 1124 and 1124A (Westwind).
Learjet Inc. | 31, 31A, 35, 35A, 36, 36A, 55, 55B, 55C, and M31.
Lockheed Martin Corporation (formerly Lockheed-Georgia) | 1329-23A, 1329-23D, 1329-23E, and 1329-25.
Raytheon Corporate Jets (formerly British Aerospace and Hawker Beechcraft Corporation) | DH.125 Series 1A, 3A, and 3A/RA, HS.125 Series F3B and F3B/RA, BH.125 and DH.125 Series 400A, HS.125 Series 403B, F400B, and F403B, HS.125 Series 600A, BH.125 Series 600A, HS.125 Series F600B, 700A, and 700B, BAe.125 Series 800 and 1000, and Hawker 800 and 850XP series.

Unsafe Condition

(d) This AD results from a report of cracks found during a fluorescent penetrant inspection (FPI) of the disc bore. We are issuing this AD to prevent an uncontained failure of a second stage LPCR disc and/or a third stage LPCR disc due to cracks in the bore, which could result in damage to the airplane.

Compliance

(e) You are responsible for having the actions required by this AD performed within the compliance times specified unless the actions have already been done.

Removing LPCR Discs From Service

(f) For engines with any of the serial number (S/N) LPCR discs listed in Table 5 of Honeywell International Inc. Alert Service Bulletins (ASBs) TFE731-72-A3748, dated August 21, 2008, and/or Table 5 of TFE731-72-A3749, dated August 21, 2008, remove those LPCR discs from service within 100 cycles-in-service (CIS) after the effective date of this AD.

(g) For engines with any of the S/N LPCR discs listed in Table 6 of Honeywell International Inc. ASBs TFE731-72-A3748, dated August 21, 2008, and/or Table 6 of TFE731-72-A3749, dated August 21, 2008, do the earlier of the following:

(1) Remove the LPCR disc from service within 2,000 CIS after the effective date of this AD, or

(2) Remove the LPCR disc from service the next time the intermediate case is removed from the low-pressure compressor case.

Installation Prohibition

(h) After the effective date of this AD, do not install any of the S/Ns of LPCR discs listed in Table 5 of Honeywell International Inc. ASBs TFE731-72-A3748, dated August 21, 2008, and the discs listed in Table 5 of TFE731-72-A3749, dated August 21, 2008, into any engine. Also, do not install any of the S/Ns of LPCR discs listed in Table 6 of Honeywell International Inc. ASBs TFE731-72-A3748, dated August 21, 2008, and the discs listed in Table 6 of TFE731-72-A3749, dated August 21, 2008, into any engine.

Alternative Methods of Compliance

(i) The Manager, Los Angeles Aircraft Certification Office, has the authority to approve alternative methods of compliance for this AD if requested using the procedures found in 14 CFR 39.19.

Related Information

(j) Contact Joseph Costa, Aerospace Engineer, Los Angeles Aircraft Certification Office, FAA, Transport Airplane Directorate, 3960 Paramount Blvd., Lakewood, CA 90712-4137; e-mail: joseph.costa@faa.gov; telephone: (562) 627-5246; fax: (562) 627-5210, for more information about this AD.

Material Incorporated by Reference

(k) You must use the service information specified in the following Table 2 to identify the affected discs requiring removal. The Director of the Federal Register approved the incorporation by reference of the documents listed in the following Table 2 in accordance with 5 U.S.C. 552(a) and 1 CFR part 51. Contact Honeywell Engines and Systems Technical Publications and Distribution, M/S 2101-201, P.O. Box 52170, Phoenix, AZ 85072-2170, telephone: Global Customer Care toll free (800) 601-3099; International callers (602) 365-3099, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Table 2—Incorporation by Reference
Honeywell International Inc. Alert Service Bulletin No. | Page | Revision | Date
TFE731-72-A3748; Total Pages: 18 | All | Original | August 21, 2008.
TFE731-72-A3749; Total Pages: 14 | All | Original | August 21, 2008.

Issued in Burlington, Massachusetts, on March 5, 2010.
Peter A. White,
Assistant Manager, Engine and Propeller Directorate, Aircraft Certification Service.

[FR Doc. 2010-5507 Filed 3-16-10; 8:45 am]

BILLING CODE 4910-13-P